AGENCY FOR INTERNATIONAL DEVELOPMENT

Request for Information (RFI) Regarding Sanctions and USAID Programs

AGENCY: Agency for International Development.

ACTION: Notice of request for information.

SUMMARY: The U.S. Agency for International Development (USAID) is considering updating its sanctions-related provisions and contract clauses for assistance and acquisition awards. A primary factor under review is whether to expand reporting requirements to enhance USAID's monitoring of recipients' and contractors' activities involving sanctioned jurisdictions or sanctioned individuals and entities subject to the sanctions programs administered by the U.S. Department of the Treasury's Office of Foreign Assets Control (OFAC). This reporting would facilitate the assessment of whether the U.S. Government is ensuring the efficient delivery of humanitarian and development assistance internationally to the most vulnerable people, while achieving U.S. national security objectives by minimizing benefits to sanctioned individuals and entities. This RFI supports this effort by soliciting feedback from the general public, which will be considered during the process of analyzing whether changes are required, as well as any subsequent drafting of new or revised award terms.

DATES: Interested persons and organizations are invited to submit comments October 28, 2024.

FOR FURTHER INFORMATION CONTACT: Jasen Andersen, USAID/M/OAA/P, 202-286-3116, or policymailbox@usaid.gov for clarification of content or information pertaining to this RFI. All communications regarding this notice must cite the docket number.

Instructions: Comments regarding this RFI must be submitted via the Federal eRulemaking Portal at https://www.regulations.gov. Response to this RFI is voluntary. Any information obtained from this RFI is intended to be used by USAID on a non-attribution basis for drafting updated award provisions and contract clauses. USAID will not respond to individual submissions or provide any responses to comments received.

SUPPLEMENTARY INFORMATION:

A. Background

The U.S. Government has taken steps, in line with its foreign policy and national security goals, to modernize and adapt its sanctions policy and operational framework and to ensure that economic sanctions do not impede the delivery of critical humanitarian and development assistance. The Department of the Treasury's sanctions review process highlighted the need to mitigate unintended humanitarian impacts of sanctions, particularly related to the provision of life-saving and other humanitarian or development assistance to civilian populations in sanctioned jurisdictions, as well as those living under sanctioned group influence or control or alongside sanctioned individuals in nondifferentiable populations. Recognizing that sanctioned individuals and entities may attempt to access humanitarian and development assistance as a means to advance or support their own interests, the U.S. Government has also taken steps to ensure that it continues to deny benefits to sanctioned individuals and entities, while supporting the delivery of legitimate humanitarian assistance.

On December 9, 2022, the United Nations Security Council (UNSC) adopted Resolution No. 2664 to carve out certain humanitarian-related activities from UNSC asset freeze sanctions regimes, thereby allowing the flow of funds, financial assets, economic resources, and goods/services to ensure timely delivery of humanitarian aid or support activities that support basic human needs (UNSCR 2664). On December 21, 2022, OFAC made corresponding amendments to its regulations in multiple sanctions programs to facilitate humanitarian-related activities and certain development assistance by adding, amending, or updating general licenses (GLs) authorizing the official business of the U.S. Government and the official business of certain international organizations and entities (87 FR 78470). OFAC's GLs can be found in Subpart E of each sanctions program in 31 CFR subtitle B, chapter V or on OFAC's website.

The U.S. Government, including USAID and its interagency partners, continue to monitor and assess whether and to what extent the U.S. Government is (1) facilitating the delivery of humanitarian and development assistance, and (2) preventing unanticipated and undesirable benefits to sanctioned individuals and entities.

USAID is considering whether and how to update provisions and contract clauses for USAID assistance and acquisition awards to include a new reporting mechanism for all humanitarian assistance and development work overseas conducted under a USAID award. This approach would (i) require USAID awardees to report on certain incidents involving sanctioned individuals and entities (e.g., payments or diversions) that take place under the awards; (ii) re-emphasize requirements for maintaining relevant records relating to transactions subject to OFAC's sanctions programs, including transactions conducted pursuant to GLs; (iii) emphasize that USAID recipients and contractors must exercise reasonable due diligence to minimize the accrual of any impermissible benefits (in the form of payments or diversions) to any sanctioned individuals or entities; and (iv) provide data to USAID to inform impact assessments and for use in dialogue with the U.S. Government interagency, as well as the UNSC. Some illustrative examples of proposed reporting requirements for USAID recipients and contractors include:

• Reporting itemized details regarding payments of funds under the award in the form of taxes, tolls, and fees to, or for the benefit of, sanctioned individuals or entities. For each payment, the awardee will make best efforts to include details about the amount paid, the approximate date and location of the payment, the name of the individual or entity receiving the payment, a description of how such payment facilitated the assistance activities, and remedial steps, if any, taken to address the issue.

• Reporting itemized details regarding diversions of funds, supplies, or services under the award by sanctioned individuals or entities. For each diversion, the awardee will make best efforts to include details about the circumstances of the diversion, the name of the individual or entity causing the diversion, estimated value diverted, the approximate date and location of the diversion, description and intended destination, and remedial steps, if any, taken to address the issue.

For USAID's assistance awards, updates could take the form of revisions to the mandatory standard provisions M12, M14, and M5 (“Preventing Transactions with, or the Provision of Resources or Support to, Sanctioned Groups and Individuals”) found in ADS 303maa, ADS 303mab, ADS 303mat, respectively. For USAID's acquisition awards, a new Agency-specific clause may be required, such as to supplement FAR 52.225-13 (“Restrictions on Certain Foreign Purchases”). Additional updates may be required to 22 CFR 228 and/or ADS 310.

B. Request for Information

This RFI is intended to solicit feedback on the following:

(1) Considerations USAID should take into account when updating the sanctions-related provisions and contract clauses for its assistance and acquisition awards.

(2) Types of information and details that recipients and contractors can report under their award for activities that are subject to OFAC's sanctions, regarding (a) payments of funds to, or for the benefit of, sanctioned individuals or entities; and (b) diversions of funds, supplies, or services by sanctioned individuals or entities.

(3) Constraints that recipients and contractors may face in reporting information regarding (a) payments of funds to, or for the benefit of, sanctioned individuals or entities; and (b) diversions of funds, supplies, or services by sanctioned individuals or entities. Where possible, include specific examples.

(4) Estimates of the burden on individual recipients and contractors in complying with any reporting requirement.

(5) Considerations USAID should consider regarding the flowdown of requirements to subrecipients and subcontractors.

(6) Recommendations on ways USAID can obtain data from recipients and contractors in order to assess the impact of GLs on the delivery of legitimate humanitarian assistance and other development activities to the most vulnerable people, while achieving U.S. national security objectives, including how USAID can collect such information on an aggregated basis from recipients and contractors.

(7) Recommendations on the frequency and method of reporting.

Responses to this RFI are not limited to the items in the above list. Commenters may provide feedback on other factors they deem relevant to USAID's updating of sanctions-related award provisions and contract clauses.

Jami J. Rodgers,
Chief Acquisition Officer.

[FR Doc. 2024-19357 Filed 8-27-24; 8:45 am]

BILLING CODE 6116-01-P